DEPARTMENT OF HEALTH AND HUMAN SERVICES

Food and Drug Administration

[Docket No. FDA-2011-N-0002]

Request for Nominations for Voting Members on a Public Advisory Committee; Food Advisory Committee

AGENCY: Food and Drug Administration, HHS.

ACTION: Notice.

SUMMARY: The Food and Drug Administration (FDA) is requesting nominations for members with expertise in epidemiology, pediatric development, and analytical chemistry or food science to serve on the Food Advisory Committee, Center for Food Safety and Applied Nutrition, Office of Regulations, Policy, and Social Sciences.

FDA has a special interest in ensuring that women, minority groups, and individuals with disabilities are adequately represented on advisory committees and, therefore, encourages nominations of qualified candidates from these groups.

DATES: Nominations received on or before February 27, 2012 will be given first consideration for membership on the Food Advisory Committee. Nominations received after February 27, 2012 will be considered for nomination to the committee if nominees are still needed.

ADDRESSES: All nominations for membership should be sent electronically to cv@oc.fda.gov or by mail to Advisory Committee Oversight and Management Staff, Food and Drug Administration, 10903 New Hampshire Ave., Bldg. 32, rm. 5103, Silver Spring, MD 20993-0002.

FOR FURTHER INFORMATION CONTACT: Regarding all nomination questions for membership, the primary contact is: Carolyn Jeletic, Office of Regulations, Policy, and Social Sciences, Center of Food Safety and Applied Nutrition (HFS-024), Food and Drug Administration, 5100 Paint Branch Ave., College Park, MD 20740, (240) 402-1913, FAX: (301) 436-2657, Carolyn.Jeletic@fda.hhs.gov.

Information about becoming a member on an FDA advisory committee can also be obtained by visiting FDA's Web site by using the following link: http://www.fda.gov/AdvisoryCommittees/default.htm.

SUPPLEMENTARY INFORMATION: FDA is requesting nomination for voting members on the Food Advisory Committee.

I. General Description of the Committee Duties

The Food Advisory Committee (the Committee) provides advice to the Commissioner of Food and Drugs (the Commissioner) and other appropriate officials, on emerging food safety, food science, nutrition, and other food-related health issues that FDA considers of primary importance for its food and cosmetics programs.

The Committee may be charged with reviewing and evaluating available data and making recommendations on matters such as those relating to: (1) Broad scientific and technical food- or cosmetic-related issues, (2) the safety of new foods and food ingredients, (3) labeling of foods and cosmetics, (4) nutrient needs and nutritional adequacy, and (5) safe exposure limits for food contaminants.

The Committee may also be asked to provide advice and make recommendations on ways of communicating to the public the potential risks associated with these issues and on approaches that might be considered for addressing the issues.

II. Criteria for Voting Members

Members and the Chair are selected by the Commissioner or designee from among individuals knowledgeable in the fields of physical sciences, biological and life science, food science, risk assessment, nutrition, food technology, molecular biology, and other relevant scientific and technical disciplines.

Members will be invited to serve for terms of up to 4 years. The Committee consists of 17 standing members; of that 15 are voting members, of whom 2 are technically qualified members identified with consumer interest. In addition to the voting members the Committee has 2 nonvoting members who are identified with industry interests.

III. Nomination Procedures

Any interested person may nominate one or more qualified individuals for membership on the advisory committee. Self-nominations are also accepted. Nominations must include a current, complete résumé or curriculum vitae for each nominee, including current business address and/or home address, telephone number, and email address if available. Nominations must also specify the advisory committee for which the nominee recommended. Nominations must also acknowledge that the nominee is aware of the nomination unless self-nominated. FDA will ask potential candidates to provide detailed information concerning such matters related to financial holdings, employment, and research grants and/or contracts to permit evaluation of possible sources of conflicts of interest.

This notice is issued under the Federal Advisory Committee Act (5 U.S.C. app. 2) and 21 CFR part 14, relating to advisory committees.

Dated: December 20, 2011.
Leslie Kux,
Acting Assistant Commissioner for Policy.

[FR Doc. 2011-33108 Filed 12-23-11; 8:45 am]

BILLING CODE 4160-01-P